INTERNATIONAL TRADE COMMISSION

[Investigation No. 337-TA-648]

In the Matter of: Certain Semiconductor Integration Circuits Using Tungsten Metallization and Products Containing Same; Notice of Commission Decision Not To Review an Initial Determination Granting, In-Part, a Motion To Amend the Complaint and Notice of Investigation

AGENCY: U.S. International Trade Commission.

ACTION: Notice.

SUMMARY: Notice is hereby given that the U.S. International Trade Commission has determined not to review an initial determination (“ID”) (Order No. 17) of the presiding administrative law judge (“ALJ”) granting, in-part, complainants' motion to amend the complaint and the notice of investigation in the above-captioned investigation to add two patent claims.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 21, 2008 based on a complaint filed on April 18, 2008 by LSI Corporation of Milpitas, California and Agere Systems Inc. of Allentown, Pennsylvania (collectively “complainants”). 73 FR 29534-35 (May 21, 2008). The complaint alleges violations of section 337 of the Tariff Act of 1930, as amended, 19 U.S.C. 1337, in the importation into the United States, the sale for importation, and the sale within the United States after importation of certain semiconductor integrated circuits using tungsten metallization and products containing same by reason of infringement of claim 1 of U.S. Patent No. 5,227,335 (“the '335 patent”). The complaint named numerous respondents including NXP B.V. of the Netherlands and Micronas Semiconductor Holding AG (“Micronas AG”) of Switzerland. The complaint further alleged that an industry in the United States exists as required by subsection (a)(2) of section 337.

On September 2, 2008, the Commission issued notice of its determination not to review an ID granting the motion of complainants, NXP B.V., and proposed respondent NXP Semiconductors USA, Inc. (“NXP Semiconductors”) of San Jose, California to amend the complaint and notice of investigation to substitute NXP Semiconductors for NXP B.V. 73 FR 52064-65 (Sept. 9, 2008). On October 8, 2008, the Commission issued notice of its determination not to review an ID granting a joint motion to amend the complaint and notice of investigation to substitute Micronas GmbH for Micronas AG. 73 FR 61168-69 (Oct. 15, 2008). On October 17, 2008, the Commission issued notice of its determination not to review an ID granting complainants' motion to amend the complaint to add five additional respondents. 73 FR 63195 (Oct. 23, 2008).

On September 19, 2008, complainants moved to amend the complaint and notice of investigation to add dependent claims 3 and 4 of the '335 patent to the investigation and new infringement allegations against the following respondents: (1) United Microelectronics Corp. (“UMC”); (2) Integrated Device Technology, Inc. (“IDT”); (3) AMIC Technology Corp. (“AMIC”); (4) Cypress Semiconductor Corp. (“Cypress”); (5) Freescale Semiconductor, Inc. (“Freescale”); (6) Grace Semiconductor Manufacturing Corp. (“Grace”); (7) Microchip Technology, Inc. (“Microchip”); (8) Micronas GmbH (“Micronas”); (9) Nanya Technology Corp. (“Nanya”); (10) NXP Semiconductors; (11) Powerchip Semiconductor (“Powerchip”); (12) ProMOS Technologies, Inc. (“ProMOS”); (13) Spansion, Inc. (“Spansion”); and (14) Vanguard International Semiconductor Corp. (“Vanguard”).

On October 30, 2008, the ALJ issued the subject ID (Order No. 17) granting, in-part, complainants' motion to add the two patent claims. The ALJ denied the motion as to respondents UMC, AMIC, Microchip, Micronas, Nanya, NXP Semiconductors, Powerchip, ProMOS, and Spansion regarding claim 3, and as to respondents UMC, IDT, AMIC, Cypress, Freescale, Grace, Microchip, Micronas, NXP Semiconductors, Powerchip, ProMOS, Spansion, and Vanguard regarding claim 4. No party petitioned for review.

The Commission has determined not to review the subject ID.

The authority for the Commission's determination is contained in section 337 of the Tariff Act of 1930, as amended, 19 U.S.C. 1337, and in sections 210.14 and 210.42(h) of the Commission's Rules of Practice and Procedure, 19 CFR 210.14, 210.42(h).

By order of the Commission.
Issued: November 19, 2008.
William R. Bishop,
Acting Secretary to the Commission.

[FR Doc. E8-27860 Filed 11-21-08; 8:45 am]

BILLING CODE 7020-02-P